DEPARTMENT OF COMMERCE

International Trade Administration

[C-489-832]

Carbon and Alloy Steel Wire Rod From the Republic of Turkey: Continuation of the Countervailing Duty Order

AGENCY: Enforcement and Compliance, International Trade Administration, Department of Commerce.

SUMMARY: As a result of the determinations by the U.S. Department of Commerce (Commerce) and the U.S. International Trade Commission (ITC) that revocation of the countervailing duty (CVD) order on carbon and alloy steel wire rod (wire rod) from the Republic of Turkey (Turkey) would likely lead to the continuation or recurrence of countervailable subsidies, and material injury to an industry in the United States, Commerce is publishing a notice of continuation of the CVD order.

DATES: Applicable August 2, 2023.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On May 21, 2018, Commerce published in the Federal Register the CVD order on wire rod from Turkey.¹ On December 1, 2022, the ITC instituted,² and Commerce initiated,³ the first sunset review of the Order, pursuant to section 751(c) of the Tariff Act of 1930, as amended (the Act). As a result of its review, Commerce determined that revocation of the Order would likely lead to continuation or recurrence of countervailable subsidies and, therefore, notified the ITC of the magnitude of the margins likely to prevail should the Order be revoked.⁴

¹ See Carbon and Alloy Steel Wire Rod from Italy and the Republic of Turkey: Amended Final Affirmative Countervailing Duty Determination for the Republic of Turkey and Countervailing Duty Orders for Italy and the Republic of Turkey, 83 FR 23420 (May 21, 2018) (Order).

² See Carbon and Certain Alloy Steel Wire Rod from Belarus, Italy, Russia, South Africa, South Korea, Spain, Turkey, Ukraine, the United Arab Emirates, and the United Kingdom; Institution of Five-Year Review, 87 FR 73789 (December 1, 2022).

³ See Initiation of Five-Year (Sunset) Reviews, 87 FR 73757 (December 1, 2022).

⁴ See Carbon and Alloy Steel Wire Rod from the Republic of Turkey: Final Results of the Expedited Sunset Review of the Antidumping Duty Order, 88 FR 20127 (April 5, 2023), and accompanying Issues and Decision Memorandum.

On August 2, 2023, the ITC published its determination, pursuant to sections 751(c) and 752(a) of the Act, that revocation of the Order would likely lead to continuation or recurrence of material injury to an industry in the United States within a reasonably foreseeable time.⁵

⁵ See Carbon and Certain Alloy Steel Wire Rod from Belarus, Italy, Russia, South Africa, South Korea, Spain, Turkey, Ukraine, the United Arab Emirates, and the United Kingdom, 88 FR 50911 (August 2, 2023).

Scope of the Order

The scope of the Order covers certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

The products covered by the Order are currently classifiable under subheadings 7213.91.3011, 7213.91.3015, 7213.91.3020, 7213.91.3093, 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of this proceeding is dispositive.

Continuation of the Order

As a result of the determinations by Commerce and the ITC that revocation of the Order would likely lead to a continuation or a recurrence of countervailable subsidies, and material injury to an industry in the United States, pursuant to section 751(d)(2) of the Act and 19 CFR 351.218(a), Commerce hereby orders the continuation of the Order. U.S. Customs and Border Protection will continue to collect CVD cash deposits at the rates in effect at the time of entry for all imports of subject merchandise.

The effective date of the continuation of the Order will be August 2, 2023. Pursuant to section 751(c)(2) of the Act and 19 CFR 351.218(c)(2), Commerce intends to initiate the next five-year review of the Order not later than 30 days prior to the fifth anniversary of the date of the last determination by the Commission.⁶

⁶ Id.

Administrative Protective Order (APO)

This notice also serves as the only reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This five-year sunset review and this notice are in accordance with section 751(c) and 751(d)(2) of the Act and published in accordance with section 777(i) of the Act, and 19 CFR 351.218(f)(4).

Dated: August 14, 2023.
Lisa W. Wang,
Assistant Secretary for Enforcement and Compliance.

[FR Doc. 2023-17810 Filed 8-17-23; 8:45 am]

BILLING CODE 3510-DS-P